DEPARTMENT OF COMMERCE

National Oceanic and Atmospheric Administration

[Docket No. 090416674-9675-01]

Implementation of New Competitive Prevention, Control, and Mitigation of Harmful Algal Blooms (HAB) Program and Regional Rotation of the Existing and New National Competitive HAB Programs

AGENCY: National Ocean Service (NOS), National Oceanic and Atmospheric Administration (NOAA), Department of Commerce (DOC).

ACTION: Notice; implementation of competitive research program.

SUMMARY: NOAA announces the implementation, under the authorities of the Harmful Algal Bloom and Hypoxia Research and Control Act (HABHRCA) of 1998, as reauthorized in 2004, of a new competitive research program on Prevention, Control, and Mitigation of Harmful Algal Blooms (PCM HAB). This third national competitive program is a companion to the two existing national harmful algal bloom (HAB) programs, Ecology and Oceanography of Harmful Algal Blooms (ECOHAB) and Monitoring and Event Response of Harmful Algal Blooms (MERHAB), already implemented under the authorities of HABHRCA. PCM HAB will transition promising technologies and strategies for prevention, control, and mitigation, arising from these and other HAB research programs, to end-users. In addition, NOAA is announcing that funding opportunity announcements for ECOHAB, MERHAB, and HAB PCM will be rotated regionally on a three year basis. The three regional groupings are: Gulf of Mexico and Caribbean/Pacific Islands; West Coast, Alaska, and Great Lakes; and South Atlantic, Mid-Atlantic, Gulf of Maine.

Details concerning appropriate research subjects for each program, more information about the regional rotation, and additional procedural information are also provided in this announcement.

FOR FURTHER INFORMATION CONTACT: Quay Dortch, ECOHAB Program Coordinator , 301/713-3338 ext 157, Quay.Dortch@NOAA.gov or Marc Suddleson, MERHAB Program Manager, 301/713-3338 ext. 162, Marc.Suddleson@noaa.gov, Center for Sponsored Coastal Ocean Research, National Centers for Coastal Ocean Science, NOS.

SUPPLEMENTARY INFORMATION:

I. Introduction

The 1998 Harmful Algal Bloom and Hypoxia Research Control Act (HABHRCA) and the Harmful Algal Bloom and Hypoxia Amendments Act of 2004 (2004 HABHRCA Reauthorization) authorized the establishment of three national programs on harmful algal blooms (HABs):

1. “Ecology and Oceanography of Harmful Algal Blooms” (ECOHAB) (HABHRCA Sec. 605 (2));

2. “Monitoring and analysis activities for HABs” (renamed Monitoring and Event Response for Harmful Algal Blooms or MERHAB) (HABHRCA Sec. 605 (4)); and

3. “A peer-reviewed research project on management measures that can be taken to prevent, reduce, control, and mitigate HABs.” (HABHRCA Sec. 605 (3))

To implement the HABHRCA, NOAA established in 1998 the ECOHAB program as an interagency (NOAA, National Science Foundation (NSF), Environmental Protection Agency(EPA), National Aeronautics and Space Administration (NASA), Office of Naval Research (ONR), competitive research program, led by NOAA, and the MERHAB program as a NOAA competitive research program. ECOHAB provides coastal managers with the understanding, tools, and models to predict the development, extent, and toxicity of HABs and their impacts, leading to early warning and new prevention and mitigation strategies. MERHAB builds capacity and enhances partnerships between managers, researchers, and private industry to improve monitoring for HAB cells and toxins and responding to HAB events.

NOAA is now announcing the establishment of a Prevention Control and Mitigation of Harmful Algal Blooms (PCM HAB) Program pursuant to HABHRCA section 605(3). In the following sections, the new PCM HAB program will be described (Section II), the existing ECOHAB and MERHAB programs will be described (Section III), and distinctions between all three programs will be clarified (Section IV). NOAA is also announcing that funding for the national competitive HAB programs, ECOHAB, MERHAB, and PCM HAB will be implemented on a rotating regional basis, as described in Section V.

II. Announcement of New National Competitive PCM HAB Program

Multiple interagency and HAB community reports and plans provide guidance for the new PCM HAB Program. The 2004 HABHRCA Reauthorization called for a National Scientific Research, Development, Demonstration, and Technology Transfer Plan on Reducing Impacts from Harmful Algal Blooms (RDDTT Plan) to “establish priorities and guidelines for a competitive, peer-reviewed, merit based interagency research, development, demonstration, and technology transfer program on methods for the prevention, control, and mitigation of HABs.” In response, a workshop was held to obtain input for this plan from HAB researchers, state and Federal resource and public health managers, and private industry. The resulting workshop report was published in September 2008, HAB RDDTT National Workshop Report: A Plan for Reducing HABs and HAB Impacts (2008)¹. The RDDTT Plan, based on the Workshop Report, was published in an interagency report, Harmful Algal Bloom Management and Response: Assessment and Plan (2008)². Both the RDDTT Workshop Report and the RDDTT Plan provide recommendations to advance research on prevention, control and mitigation of HABs and form the basis for the new PCM HAB program. Additional guidance about appropriate areas of research are provided by Harmful Algal Research and Response: A Human Dimensions Strategy (2006)³, Prevention, Control, and Mitigation of Harmful Algal Blooms: A Research Plan (2001)⁴, and Harmful Algal Blooms in Coastal Waters: Options for Prevention, Control, and Mitigation (1997)⁵.

The PCM HAB program will transition promising technologies and strategies for preventing, controlling, or mitigating HABs and their impacts from development through demonstration and technology transfer for field application by end-users. The technologies will arise from HAB research conducted by the two existing national HAB programs, ECOHAB and MERHAB, or other research programs such as Sea Grant, the NOAA Oceans and Human Health Initiative and the NSF/NIEHS Centers for Oceans and Human Health.

The goals of PCM HAB are as follows:

(1) Develop and make widely available new socially and environmentally acceptable strategies and methods for preventing, controlling, and mitigating HABs and their impacts; and

(2) Assess the social and economic costs of HAB events and the costs and benefits of prevention, control, and mitigation to guide future research and aid in the selection of the most appropriate management strategies and methods.

PCM research should address the following topics in order to meet the stated goals

(1) Prevent HABs by:

(a) Using and modifying existing models to identify strategies to prevent HABs, for example by nutrient reductions or hydrodynamic modifications, and

(b) Minimizing or preventing introductions of invasive HAB species, their cysts, and organisms that facilitate the success of HAB species;

(2) Control HABs and their impacts by:

(a) Eliminating or reducing the levels of HAB organisms through biological, chemical, or physical removal mechanisms, and

(b) Eliminating or reducing the levels of HAB toxins through biological, chemical or physical removal mechanisms;

(3) Mitigate HABs and their impacts by developing or improving methods for

(a) HAB cell and toxin detection,

(b) Relocating or modifying aquaculture and wild-capture resources,

(c) Harvesting bans and closures,

(d) Fishing and processing practices,

(e) Education and outreach,

(f) Enhancing community capacity to respond to social and economic impacts, and

(g) Intervening to reduce wildlife mortality;

(4) Enhance HAB response and ensure socially responsible development and effective implementation of PCM by

(a) Measuring social and economic costs of HABs and their impacts and the costs and benefits of HAB PCM,

(b) Improving communication strategies and approaches for facilitating changes in human behavior/attitudes, and

(c) Improving coordination of researchers, decision-makers, and stakeholders in implementing PCM research.

The PCM HAB program will be a competitive, peer-reviewed program that supports projects in three stages. In the Development phase research will advance and evaluate unproven but promising PCM technologies and strategies. The Demonstration phase will test, validate and evaluate new technologies in the field across a broad temporal and spatial scale. Finally, the Technology/Information Transfer phase will facilitate the transition of technologies and strategies to end-user application. PCM HAB projects will be typically 2-3 years in duration. Proposals for projects can be submitted for any phase. A single proposal can cover one or more phases, depending on the magnitude of the project. All projects must specify the phase or phases of the research to be conducted for the project period and outline how additional phases will be conducted. End-users, including local, state, and Federal resource and public health managers, nonprofit organizations, and a variety of businesses, must be identified and will normally be involved in all three stages. Projects in the Technology Transfer phase will also need to have end-user support secured either for long-term operations or the application of the developed tool or technology.

III. Definition of Existing National Competitive ECOHAB and MERHAB Programs

A. ECOHAB

With the addition of the new PCM HAB program, ECOHAB is retaining the focus that was originally identified in ECOHAB, the Ecology and Oceanography of Harmful Algal Blooms (1995)⁶, as updated by Harmful Algal Research and Response: A National Environmental Science Strategy (HARRNESS) 2005-2015 (2005)⁷.

The goals of ECOHAB are to develop:

1. Quantitative understanding of HABs and, where applicable, their toxins in relation to the surrounding environment with the intent of developing new information and tools, predictive models and forecasts, and prevention strategies to aid managers in coastal environments; and

2. Understanding leading to models of trophic transfer of toxins, knowledge of biosynthesis and metabolism of toxins, and assessment of impacts of toxins on higher trophic levels. Research results will be used directly to guide management of coastal resources to reduce HAB development, impacts, and future threats and will feed into other HAB programs for development of tools to improve HAB management and response.

In order to meet the stated goals, research will be conducted in the following areas:

1. Developing methods for HAB cell and toxin detection that are necessary for the conduct of research on understanding the causes and dynamics of HABs and HAB impacts on higher trophic levels;

2. Understanding the factors controlling HAB growth and toxicity by focusing on harmful algal genetics, physiology, and toxin production;

3. Understanding community ecology and ecosystem dynamics, including top-down and bottom-up control of HABs;

4. Delineating the biosynthetic pathways and metabolism of toxins;

5. Determining the trophic transfer of toxins within food webs and the impacts of toxins on individual organisms and food webs;

ECOHAB is a NOAA-led interagency, peer-reviewed, competitive program that funds regional-scale studies and targeted studies. Regional ecosystem investigations of the causes and impacts of HABs leading to development of model-based operational ecological forecasting capabilities in areas with severe, recurrent blooms are a high priority. These can be either in new areas, areas that have been studied previously but where new or unanswered questions remain, or involve comparisons between ecosystems. Conducted by multi-disciplinary, multi-institutional teams, they are typically 3-5 years in duration. Targeted studies are conducted by individual or small groups of investigators for 2-3 years and address fundamental ecological and oceanographic questions related to HAB events.

B. MERHAB

MERHAB is guided by the recommendations in Harmful Algal Research and Response: A National Environmental Science Strategy (HARRNESS) 2005-2015 (2005)⁷ and its development was shaped by findings in Prevention, Control, and Mitigation of Harmful Algal Blooms: A Research Plan (2001)⁴, and Harmful Algal Blooms in Coastal Waters: Options for Prevention, Control, and Mitigation (1997)⁵. The need for a comprehensive effort devoted to HAB monitoring is also provided by HAB RDDTT National Workshop Report: A Plan for Reducing HABs and HAB Impacts (2008)¹.

The principal goal of MERHAB is to build capacity of local, state, and tribal governments, and the private sector, for less costly and more precise and comprehensive monitoring of HAB cells and toxins, and for responding to HAB events. Improved monitoring and event response capability will be achieved through

1. Development and management application of faster, less expensive and more reliable detection methods for HAB cells and toxins;

2. Development and management application of instrumentation for low-cost, long-term observations of conditions that influence HAB dynamics;

3. Application of improved monitoring strategies and forecast models to enhance early warning capability, foster improved response to HAB events, and demonstrate operational capabilities

MERHAB is a NOAA competitive, peer-reviewed program that funds regional-scale and targeted studies. Regional projects are multi-disciplinary, multi-institutional efforts of 3-5 years duration that promote sustainable, incentive-based partnerships with a broad spectrum of stakeholders, including multiple Federal agencies and state, academic, tribal, and local entities. Regional-scale projects must include management end-users as part of the partnership. Targeted projects address specific needs to improve HAB monitoring and response, typically last for 2-3 years, and are often smaller in scale and scope. All projects must have a clear and ready management application, and include identification of management end-users.

IV. Guidance for Submitting Proposals to ECOHAB, MERHAB, and PCM HAB

Several research topics may fit more than one HAB program. Further, there are some topics that are more appropriate for other NOAA programs or programs in other agencies. The following section (A.) lists examples of appropriate programs for different components of potentially overlapping topics. Examples of topics which are not applicable to any of these three programs are provided in Section B. However, when considering the development of a proposal, investigators are strongly advised to consult with the HAB program managers designated in the request for proposals to determine the appropriate program.

A. Examples of Appropriate Research Topics for Each Program

1. Developing methods of measuring and monitoring HAB cells and toxins. The purpose of the research and the stage of development will determine which program is appropriate.

(a) ECOHAB will fund method development when it is necessary to conduct research.

(b) MERHAB will fund method development when it is needed to improve or test an existing method for use in monitoring HAB cells or toxins or environmental conditions that foster HABs.

(c) PCM HAB Phase 1 will fund novel method development where the concept is so new that it is unknown whether it will be suitable for research or monitoring.

(d) PCM HAB will also fund efforts to make existing technologies more widely available.

2.Use of models for forecasting and prediction

(a) HAB forecasting and prediction through the development of models, is covered by the ECOHAB program.

(b) Development of partnerships to test and utilize models for forecasting as part of specific monitoring programs is under the purview of MERHAB.

(c) Transfer of models for HAB forecasting and prediction to end users will be covered by PCM HAB.

(d) Modification or use of models to develop prevention strategies will be funded by PCM HAB.

3. HAB-related human dimensions research will be conducted as part of the PCM HAB program, including socio-economic impacts of HABs. However, an ECOHAB or a MERHAB proposal may have a socio-economic component as part of a larger study.

B. Examples of Non-Applicable Research Topics

1. Prevention of HABs by implementation of nutrient reductions or hydrodynamic modifications is a possible strategy, but numerous other programs in other agencies address implementation issues. PCM HAB will not fund, for example, research to develop new methods of nutrient removal or develop land use practices that may reduce nutrient inputs. However, if actual nutrient reductions or hydrodynamic changes are implemented, PCM HAB may fund research to monitor and model the consequences of those activities if they will be transferable to other situations.

2. Disease surveillance, clinical characterization, and therapeutic guidance in humans are the purview of other programs within NOAA, such as NOAA OHHI, and other agencies, such as NSF/NIEHS COHH, CDC and FDA.

3. Drinking water monitoring and treatment is under the purview of EPA.

V. Establishment of a Regional Rotation for ECOHAB, MERHAB, and PCM HAB Programs

Funding competitions for the three national HAB programs, ECOHAB, MERHAB, and PCM HAB, will be rotated on a regional basis in order to address programmatic needs and make more efficient use of resources. The need for a regional approach to addressing marine problems was emphasized in An Ocean Blueprint for the 21st Century ⁸ and America's Living Oceans: Charting a Course for Sea Change ⁹. In response, Charting the Course for Ocean Science in the United States for the Next Decade: An Ocean Research Priorities Plan and Implementation Strategy¹⁰ and Advancing NOAA's Priorities through Regional Collaboration ¹¹ recommend Federal agencies and NOAA take a regional approach. The 2004 Reauthorization of HABHRCA also acknowledged the need for a regional approach to HAB research and response by establishing a procedure for requesting Regional Assessments of HABs. In addition the regional rotation will make more efficient use of the funding available for the large, regional ecosystem-scale studies frequently funded by these programs and facilitate the proposal review process.

Each year every region will be eligible to submit funding proposals to one of the three HAB programs. Regional eligibility will rotate annually on a three year cycle, as described in the following table.

Regional Group | Geographic Regions | Year 1 | Year 2 | Year 3
1 | Gulf of Mexico, Caribbean/Pacific Islands | MERHAB | ECOHAB | PCM HAB
2 | West Coast, Alaska, Great Lakes | ECOHAB | PCM HAB | MERHAB
3 | South Atlantic, Mid-Atlantic, Gulf of Maine | PCM HAB | MERHAB | ECOHAB

The geographic region signifies where the HAB occurs, where the field work will be conducted, and/or where the benefit of the research will accrue. The location of the investigator(s) is not a determining factor. In cases where the choice of region is ambiguous, investigators are advised to consult with the appropriate Program Manager prior to submitting a letter of intent. Both regional-scale and targeted ECOHAB and MERHAB proposals will be accepted in the funding competitions held for each geographic region. Regional-scale proposals can extend between Geographic Regions in the same Regional Group (e.g. a regional-scale proposal can extend between the South Atlantic and Mid-Atlantic—both Group 3), but not between different Groups (e.g. the South Atlantic—Group 3, and Gulf of Mexico—Group 1) without prior approval of the Program Manager.

Most of the boundaries between regions listed in the table are self-evident. However, the boundary between the Gulf of Mexico and South Atlantic is set at Jupiter, FL in order to group together HABs associated with coral reefs that occur in both the Gulf of Mexico and the southeast coast of Florida. However, all proposals concerning primarily Karenia species will be submitted to competitions for the Gulf of Mexico, even if they occur on the Atlantic coast.

Some projects may not readily fit into a regional context. For example, a project may compare regions, involve many species, have a national scope, or be independent of a particular region. Investigators proposing projects that do not clearly fit any one region must have approval of the Program Manager.

VI. Procedural Information

A combined Request for Proposals for all three programs will be published approximately annually, depending on availability of funds. It will specify the regional rotations for that year and provide guidance on areas of particular agency interest. Letters of intent will be due a month later and full proposals will be due in three months. Once initiated, the order of regional rotation will be maintained.

Investigators will be strongly encouraged to submit non-binding, brief letters of intent (LOI) for all three programs. The purpose of the LOI process is to provide information to potential applicants on the relevance of their proposed project to the HAB program for which it is being submitted, prior to submitting a full proposal. Full proposals will be encouraged only for LOIs deemed relevant. LOIs may be submitted by e-mail, mail, or fax and will be due one month after the request for proposals for the three HAB programs is published. They will be reviewed by Center for Sponsored Coastal Ocean Research (CSCOR) HAB Program Managers to determine whether the proposed project is responsive in terms of region and subject matter for each program and the eligibility of the recipients to receive funds. An LOI response will be sent back to the investigator encouraging or discouraging a full proposal. The investigator will not be precluded from submitting a full proposal regardless of the LOI response. The LOI and associated communications will not be shared with mail or Panel reviewers, and will not be a factor in the decisional process.

Separate proposal review panels will be held for each program. The panel expertise will reflect the focus of each specific program and the range of proposals that have been submitted. Proposals for the three phases of the PCM HAB program will be considered by the same panel.

VII. References

1. Dortch, Q., Anderson, D., Ayres, D., and Glibert, P., editors, 2008. Harmful Algal Bloom Research, Development, Demonstration and Technology Transfer: A National Workshop Report. Woods Hole Oceanographic Institute, Woods Hole, MA. (http://www.whoi.edu/fileserver.do?id=43464&pt=10&p=19132)

2. Jewett, E.B., Lopez, C.B., Dortch, Q., Etheridge, S.M., Backer, L.C., 2008. Harmful Algal Bloom Management and Response: Assessment and Plan. Interagency Working Group on Harmful Algal Blooms, Hypoxia and Human Health of the Joint Subcommittee on Ocean Science and Technology. Washington, DC, 76 pp. (http://ocean.ceq.gov/about/docs/jsost_hab0908.pdf )

3. Bauer, M.(ed.). 2006. Harmful Algal Research and Response: A Human Dimensions Strategy. National Office for Marine Biotoxins and Harmful Algal Blooms. Woods Hole, MA: Woods Hole Oceanographic Institution, 72 pp. (http://coastalscience.noaa.gov/stressors/extremeevents/hab/HDstrategy.pdf)

4. Prevention, Control, and Mitigation of Harmful Algal Blooms: A Research Plan, 2001. NOAA National Sea Grant College Program, 28pp. (http://www.whoi.edu/science/B/redtide/pertinentinfo/PCM_HAB_Research_Plan)

5. Boesch, D.F., Anderson, D.M., Horner, R.A., Shumway, S.E., Tester, P.A. and Whitledge, T.E. 1997. Harmful Algal Blooms in Coastal Waters: Options for Prevention, Control, and Mitigation. NOAA/COP/Decision Analysis Series No.10. Silver Spring, MD: NOAA Coastal Ocean Office, 61 pp. (http://www.cop.noaa.gov/pubs/das/das10.pdf)

6. Anderson, D.M. 1995. ECOHAB, the Ecology and Oceanography of Harmful Algal Blooms. Woods Hole, MA: Woods Hole Oceanographic Institution. (http://www.whoi.edu/redtide/nationplan/ECOHAB/ECOHABhtml.html)

7. Harmful Algal Research and Response: A National Environmental Science Strategy (HARRNESS) 2005-2015. 2005. Ecological Society of America, Washington, D.C. (http://www.cop.noaa.gov/stressors/extremeevents/hab/current/harrness.html )

8. U.S. Commission on Ocean Policy, 2004. An Ocean Blueprint for the 21st Century. Final Report. Washington, DC, 2004 (http://www.oceancommission.gov/documents/full_color_rpt/welcome.html)

9. Pew Oceans Commission, 2003. America's Living Oceans: Charting a Course for Sea Change. Summary Report. Pew Oceans Commission, Arlington, Virginia. (http://www.pewtrusts.org/uploadedFiles/wwwpewtrustsorg/Reports/Protecting_ocean_life/POC_Summary.pdf)

10. NSTC Joint Subcommittee on Ocean Science and Technology, 2007. Charting the Course for Ocean Science in the United States for the Next Decade: An Ocean Research Priorities Plan and Implementation Strategy (http://ocean.ceq.gov/about/sup_jsost_prioritiesplan.html)

11. NOAA Program Planning & Integration, 2007. Advancing NOAA's Priorities through Regional Collaboration (http://www.ppi.noaa.gov/Regional_Collaboration/Regional_Collaboration_Overview_041307.pdf)

Dated: April 23, 2009.
Christopher Cartwright,
Chief Financial Officer, Ocean Service and Coastal Zone Management.

[FR Doc. E9-10187 Filed 5-1-09; 8:45 am]

BILLING CODE 3510-JS-S